AGENCY FOR INTERNATIONAL DEVELOPMENT

Bureau for Democracy, Conflict and Humanitarian Assistance; Office of Food for Peace; Announcement of Draft Food for Peace Act Title II Program Policies and Proposal Guidelines for Prevention of Malnutrition in Children Under Two Approach (PM2A) Initiatives in Burundi and Guatemala; Notice

Notice is hereby given that Draft Food for Peace Act Title II Program Policies and Proposal Guidelines for Prevention of Malnutrition in Children Under Two Approach (PM2A) Initiatives in Burundi and Guatemala are available to interested parties for general viewing. Comments should be submitted to FACG@amexdc.com by January 15, 2009.

Individuals who wish to access the current Public Law 480 Title II guidelines including the draft PM2A guidelines, should visit the Food for Peace Web site at http://www.usaid.gov/our_work/humanitarian_assistance/ffp/, or contact the Office of Food for Peace, U.S. Agency for International Development, RRB 7.06-102, 1300 Pennsylvania Avenue, NW., Washington, DC 20523-7600.

Juli Majernik,
Grants Manager, Policy and Technical Division, Office of Food for Peace, Bureau for Democracy, Conflict and Humanitarian Assistance.

[FR Doc. E8-30483 Filed 12-22-08; 8:45 am]

BILLING CODE 6116-02-P